DEPARTMENT OF ENERGY

Federal Energy Regulatory Commission

[Docket No. AD10-1-010]

Review of Cost Submittals by Other Federal Agencies for Administering Part I of the Federal Power Act; Notice Requesting Questions and Comments on Other Federal Agency Cost Submissions for Fiscal Year 2009

April 22, 2010.

In its Order On Rehearing Consolidating Administrative Annual Charges BillAppeals And Modifying Annual Charges Billing Procedures, 109 FERC ¶ 61,040 (2004) (October 8 Order), the Commission set forth an annual process for Other Federal Agencies (OFAs) to submit their costs related to Administering Part I of the Federal Power Act. Pursuant to the established process, the Director of the Financial Services Division, Office of the Executive Director, on October 22, 2009, issued a letter requesting the OFAs to submit their costs by January 21, 2010 using the OFA Cost Submission Form.

Upon receipt of the agency submissions, the Commission posted the information in eLibrary, and issued, on March 11, 2010, a notice announcing the date for a technical conference to review the submitted costs. On April 14, 2010, the Commission held the technical conference. Technical conference transcripts, submitted cost forms, and detailed supporting documents are all available for review under Docket No. AD10-1 on the Commission's eLibrary and are accessible on-line at http://www.ferc.gov, using the “eLibrary” link and are available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Those interested may file specific questions and comments on the FY 2009 OFA cost submissions with the Commission under Docket No. AD10-1-010, no later than May 7, 2010. Once filed, the Commission will forward the questions and comments to the OFAs for response.

Anyone with questions pertaining to the technical conference or this notice should contact W. Doug Foster at (202) 502-6118 (via e-mail at doug.foster@ferc.gov), or Fannie Kingsberry at (202) 502-6108 (via e-mail at fannie.kingsberry@ferc.gov).

Kimberly D. Bose,
Secretary.

[FR Doc. 2010-10059 Filed 4-29-10; 8:45 am]

BILLING CODE 6717-01-P